INTERNATIONAL TRADE COMMISSION

[Investigation Nos. 731-TA-1140-1142 (Final)]

Uncovered Innerspring Units From China, South Africa, and Vietnam

AGENCY: United States International Trade Commission.

ACTION: Revised schedule for the subject investigations.

DATES: Effective Date: October 29, 2008.

FOR FURTHER INFORMATION CONTACT: Jennifer Merrill (202-205-3188), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective July 30, 2008, the Commission established a revised schedule for the conduct of the final phase of the subject investigations (73 FR 49219, August 20, 2008). The Commission has decided to revise its schedule with respect to the date for its final release of information and the date for final party comments. The Commission will make its final release of information on November 14, 2008 and final party comments are due on November 18, 2008.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: October 30, 2008.
By order of the Commission.
Marilyn R. Abbott,
Secretary to the Commission.

[FR Doc. E8-26314 Filed 11-4-08; 8:45 am]

BILLING CODE 7020-02-P